DEPARTMENT OF ENERGY

Federal Energy Regulatory Commission

[Docket No. EC02-27-000]

LG&E Power Inc., American Power, Incorporated, and Progress Ventures, Inc.; Notice of Filing

November 21, 2001.

Take notice that on November 19, 2001, LG&E Power Inc., American Power, Incorporated and Progress Ventures, Inc., (collectively, the Applicants) filed an application pursuant to section 203 of the Federal Power Act for authorization for LG&E Power Inc.”s and American Power, Incorporated's (collectively, the Sellers) sale to Progress Ventures, Inc. (the Buyer) of certain jurisdictional facilities associated with Sellers' sale to Buyer of the limited liability company membership interests of LG&E Power Monroe LLC.

The Applicant states that copies of this application were served on the Georgia Public Service Commission, North Carolina Utilities Commission, South Carolina Public Service Commission and the Florida Public Service Commission.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before January 18, 2002. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29972 Filed 12-3-01; 8:45 am]

BILLING CODE 6717-01-P